DEPARTMENT OF THE INTERIOR

Bureau of Land Management

[LLES956000-L14200000-BJ0000-LXSITRST0000]

Eastern States: Filing of Plats of Survey

AGENCY: Bureau of Land Management, Interior.

ACTION: Notice of filing of plat of survey; Minnesota, stayed.

SUMMARY: On Friday, July 9, 2010, there was published in the Federal Register, Volume 75, Number 131, on page 39579 a notice entitled “Eastern States: Filing of Plats of Survey”. In said notice was a plat depicting the dependent resurvey of a portion of the South and West boundaries, a portion of the subdivisional lines, and the subdivision of Sections 28-33, and the survey of a tract of land in Section 31 and adjusted record meanders in Sections 31 and 32, in Township 114 North, Range 15 West, of the Fifth Principal Meridian, in the State of Minnesota. These were accepted June 22, 2010.

The official filing of the plat is hereby stayed, pending consideration of all protests.

Dated: August 30, 2010.
Dominica Van Koten,
Chief Cadastral Surveyor.

[FR Doc. 2010-22459 Filed 9-8-10; 8:45 am]

BILLING CODE 4310-GJ-P